DEPARTMENT OF COMMERCE

International Trade Administration

[C-533-878, C-570-065]

Stainless Steel Flanges From India and the People's Republic of China: Postponement of Preliminary Determinations of Countervailing Duty Investigations

AGENCY: Enforcement and Compliance, International Trade Administration, Department of Commerce.

DATES: Applicable October 27, 2017.

FOR FURTHER INFORMATION CONTACT: Ryan Mullen at 202-482-5260 (India); Justin Neuman and Jerry Huang at 202-482-0486 and 202-482-4047 (China), AD/CVD Operations, Enforcement and Compliance, International Trade Administration, U.S. Department of Commerce, 1401 Constitution Avenue NW., Washington, DC 20230.

SUPPLEMENTARY INFORMATION:

Background

On September 5, 2017, the Department of Commerce (Department) initiated countervailing duty investigations (CVD) on stainless steel flanges from India and the People's Republic of China (PRC).¹ Currently, the preliminary determinations of these investigations are due no later than November 9, 2017.

¹ See Stainless Steel Flanges from India and the People's Republic of China: Initiation of Countervailing Duty Investigations, 82 FR 42654 (September 11, 2017) (Initiation Notice).

Postponement of Preliminary Determination

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the Department initiated the investigation.

On October 4, 2017, the Coalition of American Flange Producers (the petitioners), petitioners in the underlying investigation, submitted timely requests pursuant to section 703(c)(1)(A) of the Act and 19 CFR 351.205(e) to postpone the preliminary determinations.² For the reasons stated above and because there are no compelling reasons to deny the requests, the Department, in accordance with section 703(c)(1)(A) of the Act, is postponing the deadline for the preliminary determinations to no later than 130 days after the day on which the investigations were initiated. Accordingly, the Department will issue the preliminary determinations no later than January 16, 2018.³ In accordance with section 705(a)(1) of the Act and 19 CFR 351.210(b)(1), the deadline for the final determinations of these investigations will continue to be 75 days after the date of the preliminary determinations, unless postponed at a later date.

² See the petitioners' letter re: Stainless Steel Flanges from India: Request to Postpone Determination, dated October 4, 2017; see also petitioners' letter re: Stainless Steel Flanges from the People's Republic of China: Request to Postpone Determination, dated October 4, 2017.

³ See 19 CFR 351.303(b)(1) and (2). January 13, 2018, 130 days after the scheduled preliminary determination, is a Saturday; in addition, January 15, 2018, Monday, is a federal holiday.

This notice is issued and published pursuant to section 703(c)(2) of the Act and 19 CFR 351.205(f)(1).

Dated: October 19, 2017.
Gary Taverman,
Deputy Assistant Secretary for Antidumping and Countervailing Duty Operations performing the non-exclusive functions and duties of the Assistant Secretary for Enforcement and Compliance.

[FR Doc. 2017-23400 Filed 10-26-17; 8:45 am]

BILLING CODE 3510-DS-P